DEPARTMENT OF HEALTH AND HUMAN SERVICES

Office of the Secretary

Availability of Funds for Grants for the Health Disparities In Minority Health Program

AGENCY: Department of Health and Human Services, Office of the Secretary, Office of Public Health and Science, Office of Minority Health (OMH).

ACTION: Notice.

SUMMARY: The purpose of the Fiscal Year (FY) 2002 Health Disparities In Minority Health Grant Program is to support the elimination of health disparities among racial and ethnic populations (see definition of Minority Populations) through local small-scale projects which address a demonstrated health problem or health issue. This program is intended to demonstrate the merit of using local organizations to develop, implement, and conduct small-scale community-based projects which address health problems and issues related to health disparities in local minority communities.

Authority: This program is authorized under Section 1701 (e)(1) of the Public Health Service (PHS) Act, as amended.

Outcomes for projects addressing HIV/AIDS must include any or all of the following:

• Reduction in high-risk behaviors (e.g., injection drug use, multiple partners, unprotected sex).

• Increased counseling and testing services (e.g., hardly reached minority populations—youth, women at risk, men having sex with men, homeless persons, injection drug users, mentally ill persons, incarcerated persons).

• Improved access to health care (e.g., hardly reached minority populations—youth, women at risk, men having sex with men, homeless persons, injection drug users, mentally ill persons, incarcerated persons).

The outcome for all other projects must be a decrease in the targeted health disparity(ies) as demonstrated through:

• Reduction in high-risk behaviors (e.g., tobacco use, physical inactivity, poor eating habits); or

• Improved access to health care.

ADDRESSES: For this grant, applicants must use Form PHS 5161-1 (Revised July 2000 and approved by OMB under Control Number 0348-0043). Applicants are advised to pay close attention to the specific program guidelines and general instructions provided in the application kit. To get an application kit, write to: Ms. Chanee Jackson, OMH Grants Management Center, c/o Health Management Resources, Inc., 8401 Corporate Drive, Suite 400, Landover, MD 20785, e-mail grantrequests@healthman.com, fax (301) 429-2315; or call Chanee Jackson at (301) 429-2300. Send the original and 2 copies of the complete grant application to Ms. Chanee Jackson at the same address.

DATES: To receive consideration, grant applications must be postmarked by the OMH Grants Management Center by 5 p.m. EDT on July 25, 2002. Applications postmarked after the exact date and time specified for receipt will not be accepted. Applications submitted by facsimile transmission (FAX) or any other electronic format will not be accepted. Applications which do not meet the deadline will be returned to the applicant unread.

FOR FURTHER INFORMATION CONTACT: Ms. Karen Campbell, Grants Management Officer, for technical assistance on budget and business aspects of the application. She may be contacted at the Office of Minority Health, Rockwall II Building, Suite 1000, 5515 Security Lane, Rockville, MD 20852; or by calling (301) 594-0758. For questions on the program and assistance in preparing the grant proposal, contact: Ms. Cynthia H. Amis, Director, Division of Program Operations, at the same address; or by calling (301) 594-0769.

For additional assistance contact the OMH Regional Minority Health Consultants listed in the grant application kit. For health information, call the OMH Resource Center at 1-800-444-6472.

SUPPLEMENTARY INFORMATION: OMB Catalog of Federal Domestic Assistance: The Catalog of Federal Domestic Assistance Number for this program is 93.100.

Availability of Funds: About $1 million is expected to be available for award in FY 2002. It is expected that 20 to 30 awards will be made. Support may be requested for a total project period not to exceed 2 years.

Those applicants funded through the competitive process:

1. Are to begin their projects on September 30, 2002.

2. Will receive an award up to $50,000 total costs (direct and indirect) for a 12 month period.

3. Will be able to apply for a noncompeting continuation award of up to $50,000 (direct and indirect) for an additional 1 year. After year 1, funding will be based on:

—The amount of money available;

—Success or progress in meeting project objectives.

Note: For noncompeting continuation awards, grantees must submit a continuation application, written reports, and continue to meet the established program guidelines.

Eligible Applicants: To qualify for funding, an applicant must be a private non-profit community-based, minority-serving organization which addresses health and human services.

Note: Faith-based organizations that meet the definition of a private nonprofit community-based, minority-serving organization are eligible to apply for these Health Disparities In Minority Health Grants. Tribal organizations and local affiliates of national, state-wide, or regional organizations that meet the definition of a private non-profit community-based, minority-serving organization are also eligible to apply.

The organization submitting the application will:

• Serve as the lead agency for the project, responsible for its implementation and management.

• Serve as the fiscal agent for the federal grant awarded.

Organizations may not receive a grant from more than one OMH program at the same time. However, an organization with an OMH grant that ends by 9/29/02 can submit an application under this announcement.

Background

The Department of Health and Human Services (HHS), OMH is committed to working with community-based organizations and minority institutions of higher education to improve the health of racial and ethnic minority populations (see definition of Minority Populations), through the development of health policies and programs that help to eliminate health disparities and gaps. OMH serves as the focal point in the HHS for service demonstrations, coalition, and partnership building, and related efforts to address the health needs of racial and ethnic minorities.

To that end, OMH implemented the Health Disparities In Minority Health Grant Program in FY 2001 to address a wide range of health problems, gaps in service, and issues that affect the health and well-being of local minority communities. It is anticipated that this program will strengthen local efforts which have been using innovative approaches to address a wide range of health issues affecting local minority communities.

Annual issues of Health, United States ¹ and Healthy People 2010 ², report that the overall health of the Nation continues to steadily and significantly improve. Yet, these reports also indicate that racial and ethnic minorities have not benefitted equally in this progress over time. The fact remains that disparities in the burden of death and illness experienced by American Indians or Alaska Natives, Asians, Blacks or African Americans, Native Hawaiians or Other Pacific Islanders, and Hispanics or Latinos, as compared with the United States population as a whole, have persisted, and, in many areas, are growing.

¹ Health, United States, 2001, U.S. Department of Health and Human Services, Centers for Disease Control and Prevention, National Center for Health Statistics, HHS Publication Number (PHS) 01-1232.

² Healthy People 2010, U.S. Department of Health and Human Services, 2nd ed., volumes I and II, November 2000.

Among the many disparities noted, the Healthy People 2010 reports:

• Although the proportion of the adult population having a specific source of primary care has increased, Hispanic and African American adults and other subgroups continue to be less likely to have a specific source of primary care.

• Despite lower overall rates in the United States, infant mortality rates for American Indians or Alaska Natives, African Americans, Native Hawaiians, and Puerto Ricans are persistently higher than for whites. The infant mortality rate for African Americans remains twice that of whites.

• Deaths due to breast cancer in African American females continues to increase, in part because the breast cancer is diagnosed at later stages.

• Hispanics have higher rates of cervical, esophageal, gallbladder, and stomach cancers than the white population. New cases of female breast and lung cancers are increasing among Hispanics, who are diagnosed at later stages and have lower survival rates than whites. Some specific forms of cancer affect other ethnic groups at rates higher than the national average (for example, stomach and liver cancers among Asian American populations and colorectal cancer among Alaska Natives).

• The relative number of persons diagnosed with diabetes in American Indian, African American, and Hispanic communities is one to five time greater than in white communities.

• The number of existing cases of high blood pressure is nearly 40 percent higher in African Americans than in whites (an estimated 6.4 million African Americans), and the effects are more frequent and severe in the African American population.

• African Americans and Hispanics comprised 55 percent (251,408 and 124,841, respectively) of the 688,200 cases of AIDS reported among persons of all ages and racial and ethnic groups through December 1998.

The HHS supports the effort to eliminate disparities in health status experienced by racial and ethnic minority populations by year 2010. The 28 focus areas embodied in Healthy People 2010 are targeted for specific improvements. To learn more information about the health disparities that exist among racial and ethnic minorities in the United States today, read applicable sections of Healthy People 2010. (See the section on Healthy People 2010 in this announcement for information on how to obtain a copy.) Applicants may elect to address any of the 28 focus areas contained in Healthy People 2010 or other health problems where there is a health disparity in a local minority community.

Note: The Healthy People 2010 focus areas will also be listed in the grant application kit.

Project Requirements

Each project funded under this demonstration program must:

1. Address at least 1, but no more than 3, of the health focus areas addressed in Healthy People 2010 or other documented health problems or issues that affect the targeted local minority group(s);

2. Identify problems, such as gaps in services, or issues affecting the targeted area which will be addressed by the proposed project;

3. Identify existing resources in the targeted area which will be linked to the proposed project; and

4. Implement an innovative approach to address the problem(s).

Use of Grant Funds: Budgets up to $50,000 total costs (direct and indirect) may be requested per year to cover costs of:

• Personnel;

• Consultants;

• Equipment;

• Supplies;

• Grant related travel;

• Other grant related costs.

Note: All budget requests must be fully justified in terms of the proposed purpose, objectives, and activities.

Funds may not be used for:

• Activities that may compromise privacy and confidentiality of the target population;

• Building alterations or renovations;

• Conferences;

• Construction;

• Fund raising activities;

• Job training;

• Medical treatment;

• Political education and lobbying;

• Research studies involving human subjects;

• Vocational rehabilitation.

Review of Applications

• Applications will be screened upon receipt. Those that are judged to be incomplete, non-responsive or non-conforming to the announcement, will not be accepted for review and will be returned.

• Each organization may submit no more than one proposal under this announcement.

• Accepted applications will be reviewed for technical merit in accordance with PHS policies.

• Accepted applications will be evaluated by an Objective Review Committee. Committee members will be chosen for their expertise in minority health and their understanding of the unique health problems and related issues confronted by racial and ethnic minority populations in the United States.

Application Review Criteria: The technical review of applications will consider the following 5 generic factors.

Factor 1: Program Plan (35%)

• Appropriateness of the overall approach, and likelihood of successful implementation of the project.

• Logic and sequencing of the planned approach, and appropriateness of specific activities for each objective.

• Adequacy of time allowed to accomplish the proposed activities.

Factor 2: Evaluation (20%)

• Thoroughness, feasibility, and appropriateness of the evaluation design, data collection, and analysis procedures for each objective.

• Clarity of the intent and plans to document the activities and their outcomes.

• Potential for replication of the project for similar target populations and communities.

• Potential for proposed project to impact the targeted health disparity(ies).

Factor 3: Background (15%)

• Significance and prevalence of the identified health issue(s) in the target population.

• Need for the intervention within the proposed minority community and target population.

• Approach for bringing together community-based resources to address the problem(s).

• Extent to which the applicant demonstrates access to the target minority community(ies), and whether it is well positioned and accepted within the community(ies) to be served.

• A track record that describes the extent and documented outcomes of past efforts and activities with the target population. (Currently funded Health Disparities In Minority Health Grantees [competing continuation applicants] must attach a progress report describing project accomplishments and outcomes.)

Factor 4: Objectives (15%)

• Merit of the objectives.

• Relevance to the program purpose and stated problems.

• Attainability in the stated time frames.

Factor 5: Management Plan (15%)

• Applicant organization's capability to manage and evaluate the project as determined by:

—Qualifications and appropriateness of proposed staff or requirements for “to be hired” staff

—Proposed staff level of effort

—Management experience of the applicant

—The applicant's organizational structure

—Appropriateness of defined roles including staff reporting channels and that of any proposed contractors

Award Criteria

Funding decisions will be determined by the Deputy Assistant Secretary for Minority Health of the OMH and will take under consideration:

• The recommendations and ratings of the review panel.

• Geographic and racial/ethnic distribution.

• Health disparity(ies) addressed.

Reporting and Other Requirements

General Reporting Requirements: A successful applicant under this notice will submit: (1) Progress reports; (2) an annual Financial Status Report; and (3) a final progress report and Financial Status Report in the format established by the OMH, in accordance with provisions of the general regulations which apply under 45 CFR 74.51-74.52, with the exception of State and local governments to which 45 CFR part 92, subpart C reporting requirements apply.

Public Health System Reporting Requirements: This program is subject to Public Health Systems Reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate State and local health agencies in the area(s) to be impacted: (a) A copy of the face page of the application (SF 424); and (b) a summary of the project (PHSIS), not to exceed one page, which provides: (1) A description of the population to be served; (2) a summary of the services to be provided; and (3) a description of the coordination planned with the appropriate State or local health agencies. Copies of the letters forwarding the PHSIS to these authorities must be contained in the application materials submitted to the Office of Minority Health.

State Reviews: This program is subject to the requirements of Executive Order 12372 which allows States the option of setting up a system for reviewing applications from within their States for assistance under certain Federal programs. The application kit available under this notice will contain a list of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline established by the OMH Grants Management Officer.

The OMH does not guarantee that it will accommodate or explain its responses to State process recommendations received after that date. (See “Intergovernmental Review of Federal Programs” Executive Order 12372 and 45 CFR Part 100 for a description of the review process and requirements).

Healthy People 2010

The PHS is committed to achieving the health promotion and disease prevention objectives of Healthy People 2010, a PHS-led national activity announced in January 2000 to eliminate health disparities and improve the years and quality of life. More information on the Healthy People 2010 objectives may be found on the Healthy People 2010 Web site: http://www.health.gov/healthypeople. Copies of the Healthy People 2010 Volumes I and II can be purchased by calling (202) 512-1800 (cost $70.00 for the printed version or $19.00 for the CDROM). Another reference is the Healthy People 2000 Review 1998-99.

For 1 free copy of the Healthy People 2010, contact: The National Center for Health Statistics (NCHS), Division of Data Services, 6525 Belcrest Road, Hyattsville, MD 20782-2003, or telephone (301) 458-4636; ask for HHS Publication No. (PHS) 99-1256.

This document may also be downloaded from the NCHS Web site: http://www.cdc.gov/nchs.

Definitions

For purposes of this grant announcement, the following definitions are provided:

Community-Based Organization: A private non-profit organization that is representative of communities or significant segments of communities, and where the control and decision-making powers are located at the community level.

Community-Based Minority-Serving Organization: A community-based organization that has a history of service to the racial/ethnic minority populations. (See definition of Minority Populations below.)

Minority Populations: American Indian or Alaska Native; Asian; Black or African American; Hispanic or Latino and Native Hawaiian or Other Pacific Islander. (Revision to the Standards for the Classification of Federal Data on Race and Ethnicity, Federal Register, Vol. 62, No. 210, pg. 58782, October 30, 1997).

Dated: June 20, 2002.
Nathan Stinson, Jr.,
Deputy Assistant Secretary for Minority Health.

[FR Doc. 02-15986 Filed 6-24-02; 8:45 am]

BILLING CODE 4150-29-P